SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes a revision to an OMB-approved information collection.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers listed below.

(OMB) Office of Management and Budget, Attn: Desk Officer for SSA, Fax: 202-395-6974, e-mail address: OIRA_Submission@omb.eop.gov.

(SSA) Social Security Administration, DCBFM, Attn: Reports Clearance Officer, 1332 Annex Building, 6401 Security Blvd., Baltimore, MD 21235, Fax: 410-965-6400, e-mail address: OPLM.RCO@ssa.gov.

I. The information collection below is pending at SSA. SSA will submit it to OMB within 60 days from the date of this notice. Therefore, your comments would be most helpful if you submit them to SSA within 60 days from the date of this publication. Individuals can obtain copies of the collection instrument by calling the SSA Reports Clearance Officer at 410-965-3758 or by writing to the e-mail address listed above.

Administrative Review Process for Adjudicating Initial Disability Claims—20 CFR 404.961, 405.330, 405.366, 404.950, 405.332, 404.949, 405.334, 404.957(a), 405.380(a), 405.381, 405.382, 405.425(b), 404.982, 405.505, 404.987, 405.601(b), 404.988 and 405.601(b)—0960-0710. SSA collects information to establish (1) The claimant's right to administrative review, (2) the severity of the claimant's alleged impairments, and (3) the State Disability Determination Services (DDSs) performance level. SSA uses the information collected by these regulations to determine entitlement and/or eligibility to disability insurance benefits and/or Supplemental Security Income (SSI) and to permit appeals of these determinations. The respondents are applicants for Title II disability insurance benefits and/or SSI payments.

Type of Request: Revision of an OMB-approved information collection.

Section No. | Number of respondents | Frequency of response | Average burden per response | Estimated annual burden (hours)
404.961 | 11,725 | 1 | 20 minutes | 3,908
405.330 | 396 | 1 | 20 minutes | 132
405.366 | 99 | 1 | 20 minutes | 33
404.950(d) | 1,040 | 1 | 20 minutes | 347
404.949 | 2,868 | 1 | 1 hour | 2,868
405.334 | 20 | 1 | 1 hour | 20
404.957(a) | 20,395 | 1 | 10 minutes | 3,399
405.380(a) | 646 | 1 | 10 minutes | 108
405.381 and 405.382 | 37 | 1 | 30 minutes | 19
405.425(b) | 200 | 1 | 1 hour | 200
404.982 | 1,317 | 1 | 30 minutes | 659
404.987 and 404.988 | 10,610 | 1 | 30 minutes | 5,305
405.601(b) | 52 | 1 | 30 minutes | 26
Totals | 49,405 |  |  | 17,024

II. SSA has submitted the information collections listed below to OMB for clearance. Your comments on the information collections would be most useful if received by OMB and SSA within 30 days from the date of this publication. You can obtain a copy of the OMB clearance packages by calling the SSA Reports Clearance Officer at 410-965-3758, or by writing to the above listed address.

Modified Benefit Formula Questionnaire—Foreign Pension—0960-0561. SSA uses the information collected on Form SSA-308 to determine exactly how much (if any) of a foreign pension may be used to reduce the amount of Title II Social Security retirement or disability benefits under the modified benefit formula. The respondents are applicants for Title II Social Security retirement or disability benefits who have foreign pensions.

Type of Request: Revision of an OMB-approved information collection.

Number of Respondents: 13,452.

Frequency of Response: 1.

Average Burden per Response: 10 minutes.

Estimated Annual Burden: 2,242 hours.

This is a correction notice: SSA inadvertently published the incorrect burden information for this collection on September 17, 2008 at 73 FR 53919.

Dated: January 5, 2009.
John Biles,
Reports Clearance Officer, Center for Reports Clearance, Social Security Administration.

[FR Doc. E9-129 Filed 1-7-09; 8:45 am]

BILLING CODE 4191-02-P